DEPARTMENT OF TRANSPORTATION

Maritime Administration

[Docket No. MARAD-2000-7403]

Information Collection Available for Public Comments and Recommendations

ACTION: Notice and request for comments.

SUMMARY: In accordance with the Paperwork Reduction Act of 1995 (44 U.S.C. 3501 et seq.) this notice announces the Maritime Administration's (MARAD's) intentions to request Office of Management and Budget (OMB) approval to add a new survey form to the currently approved information collection titled “Customer Service Surveys,” OMB Number 2133-0528.

DATES: Comments should be submitted on or before July 25, 2000.

FOR FURTHER INFORMATION CONTACT: James J. Zok, Associate Administrator for Shipping Analysis and Cargo Preference, MAR-500, Room 8126, 400 Seventh Street, SW, Washington, D.C. 20590. Telephone 202-366-0364 or fax 202-366-7901. Copies of this collection can also be obtained from that office.

SUPPLEMENTARY INFORMATION: Title of Collection: Customer Service Surveys.

Type of Request: Revision of a currently approved information collection.

OMB Control Number: 2133-0528.

Form Number: MA-1016; MA-1017; MA-1021.

Expiration Date of Approval: Three years from the date of approval.

Summary of Collection of Information: Executive Order 12862 requires agencies to survey customers to determine the kind and quality of services they want and the level of their satisfaction with existing services. This collection covers MARAD forms used to carry out such surveys covering MARAD programs and services.

Need and Use of the Information: (1) Responses to the “Customer Service Questionnaire” are needed to obtain prompt customer feedback on the quality of specific services/products provided to the customer by MARAD. The information provided will be used to ascertain the customer's level of satisfaction. (2) Responses to the “Program Performance Survey” are needed to obtain customers’ views on MARAD's major programs and activities with which the customers were involved during the preceding year. (3) Responses to the new “Conference/Exhibit Survey” are needed to obtain feedback from conference attendees on the quality and success of a particular MARAD sponsored conference or event. The information provided will be used by MARAD’s senior management and MARAD’s program managers to monitor the overall level of customer satisfaction and to identify areas for improvement.

Description of Respondents: Individuals/entities directly served by MARAD.

Annual Responses: 6650 responses.

Annual Burden: 256 hours.

Comments: Comments should refer to the docket number that appears at the top of this document. Written comments may be submitted to the Docket Clerk, U.S. DOT Dockets, Room PL-401, 400 Seventh Street, SW, Washington, D.C. 20590. Comments may also be submitted by electronic means via the Internet at http://dmses.dot.gov/submit. Specifically, address whether this information collection is necessary for proper performance of the function of the agency and will have practical utility, accuracy of the burden estimates, ways to minimize this burden, and ways to enhance quality, utility, and clarity of the information to be collected. All comments received will be available for examination at the above address between 10 a.m. and 5 p.m., EDT. Monday through Friday, except Federal Holidays. An electronic version of this document is available on the World Wide Web at http://dms.dot.gov.

Dated: May 22, 2000.
By Order of the Maritime Administrator.
Joel C. Richard,
Secretary.

[FR Doc. 00-13242 Filed 5-25-00; 8:45 am]

BILLING CODE 4910-81-P